DEPARTMENT OF AGRICULTURE

Animal and Plant Health Inspection Service

[Docket No. 03-080-4]

RIN 0579-AB73

Bovine Spongiform Encephalopathy; Minimal Risk Regions and Importation of Commodities; Availability of an Environmental Assessment

AGENCY: Animal and Plant Health Inspection Service, USDA.

ACTION: Notice of availability and request for comments.

SUMMARY: We are advising the public that the Animal and Plant Health Inspection Service has prepared an environmental assessment relative to a final rule published in today's issue of the Federal Register to amend the regulations regarding the importation of animals and animal products to recognize, and add Canada to, a category of regions that present a minimal risk of introducing bovine spongiform encephalopathy into the United States via live ruminants and ruminant products. The rule also sets out conditions under which certain live ruminants and ruminant products and byproducts may be imported from such regions. We are making the environmental assessment available to the public for review and comment.

DATES: We will consider all comments that we receive on or before February 3, 2005.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 03-080-4, Regulatory Analysis and Development, PPD, APHIS, Station 3C71, 4700 River Road Unit 118, Riverdale, MD 20737-1238. Please state that your comment refers to Docket No. 03-080-4.

• E-mail: Address your comment to regulations@aphis.usda.gov. Your comment must be contained in the body of your message; do not send attached files. Please include your name and address in your message and “Docket No. 03-080-4” on the subject line.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Dr. Karen James-Preston, Director, Technical Trade Services, National Center for Import and Export, VS, APHIS, 4700 River Road Unit 38, Riverdale, MD 20737-1231; (301) 734-4356.

SUPPLEMENTARY INFORMATION:

Background

On November 4, 2003, the Animal and Plant Health Inspection Service (APHIS) published in the Federal Register (68 FR 62386-62405, Docket No. 03-080-1) a proposal to amend the regulations regarding the importation of animals and animal products to recognize a category of regions that present a minimal risk of introducing bovine spongiform encephalopathy (BSE) into the United States via live ruminants and ruminant products, and proposed to add Canada to this category. We also proposed to allow the importation of certain live ruminants and ruminant products and byproducts from such regions under certain conditions.

In that proposed rule, we informed the public that we had prepared an environmental assessment (EA) regarding the potential impact on the quality of the human environment due to the importation of ruminants and ruminant products and byproducts from Canada under the conditions specified in the proposed rule. APHIS' review and analysis of the potential environmental impacts associated with those proposed importations were documented in the EA, titled “Proposed Rulemaking to Establish Criteria for the Importation of Designated Ruminants and Ruminant Products from Canada into the United States, Environmental Assessment (October 2003).” We made that EA available to the public for review and comment during the proposed rule's comment period, which originally closed on January 5, 2004, but was subsequently extended to April 7, 2004, by a notice published in the Federal Register on March 8, 2004 (69 FR 10633-10636, Docket No. 03-080-2).

During the comment period for the proposed rule, comments were received from the public regarding the EA. As a result of those comments, and in light of new circumstances that have arisen since the October 2003 EA was prepared (most notably the detection of BSE in a Holstein cow in Washington State in December 2003), APHIS has revised the October 2003 EA to discuss in more detail the potential impacts of concern for the human environment. We are making this revised EA, titled “Rulemaking to Establish Criteria for the Importation of Designated Ruminants and Ruminant Products From Canada into the United States, Final Environmental Assessment (December 2004),” available to the public for review and comment. We will consider all comments that we receive on or before the date listed under the heading DATES at the beginning of this notice.

The EA may be viewed on the EDOCKET Web site (see ADDRESSES above for instructions for accessing EDOCKET) or on the APHIS Web site at http://www.aphis.usda.gov/lpa/issues/bse/bse.html. You may request paper copies of the EA by calling or writing to the person listed under FOR FURTHER INFORMATION CONTACT. Please refer to the title of the EA when requesting copies. The EA is also available for review in our reading room (information on the location and hours of the reading room is provided under the heading ADDRESSES at the beginning of this notice).

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC, this 27th day of December 2004.
Kevin Shea,
Acting Administrator, Animal and Plant Health Inspection Service.

[FR Doc. 04-28594 Filed 12-29-04; 3:00 pm]

BILLING CODE 3410-34-P